NUCLEAR REGULATORY COMMISSION

[Docket No. 50-263]

Licensee; Notice of Issuance of Amendment to Facility Operating License

The U.S. Nuclear Regulatory Commission (Commission) has issued Amendment No. 139 to Facility Operating License No. DPR-22 issued to Nuclear Management Company, LLC (the licensee), which revised the Technical Specifications for operation of the Monticello Nuclear Generating Plant, located in Wright County, Minnesota. The amendment is effective as of the date of issuance.

The amendment modified the Technical Specifications to change design bases and the Updated Safety Analysis Report (USAR) for (1) long-term containment response to the design-basis loss-of-coolant accident (LOCA) and (2) containment overpressure required for adequate available net positive suction head for the low-pressure emergency core cooling system pumps following a LOCA, reactor vessel isolation, and Appendix R fire.

The application for the amendment complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment to Facility Operating License and Opportunity for a Hearing in connection with this action was published in the Federal Register on January 27, 2003 (68 FR 3900). No request for a hearing or petition for leave to intervene was filed following this notice.

The Commission has prepared an Environmental Assessment related to the action and has determined not to prepare an environmental impact statement. Based upon the environmental assessment, the Commission has concluded that the issuance of the amendment will not have a significant effect on the quality of the human environment (69 FR 29983).

Further details with respect to the action see (1) the application for amendment dated December 6, 2002, as supplemented September 24, 2003 and March 12, 2004, (2) Amendment No. 139 to License No. DPR-22, (3) the Commission's related Safety Evaluation, and (4) the Commission's Environmental Assessment. Documents may be examined, and/or copied for a fee, at the NRC's Public Document Room, located at One White Flint North, 1555 Rockville Pike (first floor), Rockville, Maryland. Publicly available records will be accessible electronically from the Agencywide Documents Access and Management Systems (ADAMS) Public Electronic Reading Room on the Internet at the NRC Web site, http://www.nrc.gov/NRC/ADAMS/index.html. Persons who do not have access to ADAMS or who encounter problems in accessing the documents located in ADAMS, should contact the NRC Public Document Room Reference staff by telephone at 1-800-397-4209 or 301-415-4737, or send an e-mail to pdr@nrc.gov.

Dated at Rockville, Maryland, this 2nd day of June, 2004.
For the Nuclear Regulatory Commission.
L. Mark Padovan,
Project Manager, Section 1, Project Directorate III, Division of Licensing Project Management, Office of Nuclear Reactor Regulation.

[FR Doc. 04-13020 Filed 6-8-04; 8:45 am]

BILLING CODE 7590-01-P